ENVIRONMENTAL PROTECTION AGENCY

[OEI-2005-0008, FRL-7971-2]

Agency Information Collection Activities: Proposed Collection; Comment Request; Delisting the Fish Tainting Beneficial Use Impairment in the Saginaw River/Bay Area of Concern, EPA ICR Number 2199.01

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before November 21, 2005.

ADDRESSES: Submit your comments, referencing docket ID number OEI-2005-0008, to EPA online using EDOCKET (our preferred method), by e-mail to oei.docket@epa.gov, or by mail to: Environmental Protection Agency, Office of Environmental Information Docket, Mail Code 28221T, 1200 Pennsylvania Ave., NW., Washington, DC 20460.

FOR FURTHER INFORMATION CONTACT: James Schardt, Environmental Protection Agency, Great Lakes National Program Office, 77 W. Jackson Blvd (G-17J), Chicago, IL 60604; telephone number: (312) 353-5085; fax number: (312) 353-2018; e-mail address: schardt.james@epa.gov.

SUPPLEMENTARY INFORMATION: EPA has established a public docket for this ICR under Docket ID number OEI-2005-0008, which is available for public viewing at the OEI Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are members of the public, specifically local residents of the Saginaw Bay region of Michigan.

Title: Delisting the Fish Tainting Beneficial Use Impairment in the Saginaw River/Bay Area of Concern

Abstract: The 1988 Saginaw River/Bay RAP cited 12 impairments of the 14 categories specifically listed by the IJC for the Saginaw River/Bay AOC, including tainting of fish (i.e., taste and odor concerns). Chemical odors and tastes associated with harvested fish were frequently reported from the 1940s through the 1970s in the Saginaw and Tittabawassee Rivers, and in the Saginaw Bay. In the 1994 Remedial Action Plan Update, the Michigan Department of Natural Resources reported that no off-flavor was detected in taste tests conducted on fish taken from these waters. Since taste and odor complaints related to edible fish taken from both Saginaw River and Bay have disappeared in recent years, this project will distribute a voluntary survey to 7,680 local residents and anglers to determine if taste and odor problems in fish fillets have abated to the extent that delisting of the beneficial use impairment may be recommended for the Area of Concern (AOC). Results of the individual survey respondents will be confidential. An agency may not conduct or sponsor, and a person is not required to respond to, a collection of information unless it displays a currently valid OMB control number. The OMB control numbers for EPA's regulations in 40 4 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The voluntary survey instrument is expected to take .5 hours to review and complete per individual response. The targeted frequency of response is 20 percent, or 1,536 completed surveys. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: September 9, 2005.
Gary V. Gulezian,
Director, Great Lakes National Program Office.

[FR Doc. 05-18721 Filed 9-19-05; 8:45 am]

BILLING CODE 6560-50-P